DEPARTMENT OF THE INTERIOR

Bureau of Land Management

[LNM9300000 L12200000 XX0000]

Renewal of Approved Information Collection; OMB Control No. 1004-0165

AGENCY: Bureau of Land Management, Interior.

ACTION: 30-Day notice and request for comments.

SUMMARY: The Bureau of Land Management (BLM) has submitted an information collection request to the Office of Management and Budget (OMB) to continue the collection of information that is necessary to implement two provisions of the Federal Cave Resources Protection Act—one which requires Federal agencies to consult with interested parties to develop a listing of significant caves, and another under which Federal and State governmental agencies and bona fide educational and research institutions may request confidential information regarding significant caves. The Office of Management and Budget (OMB) previously approved this information collection activity, and assigned it control number 1004-0165.

DATES: The OMB is required to respond to this information collection request within 60 days but may respond after 30 days. For maximum consideration, written comments should be received on or before November 6, 2015.

ADDRESSES: Please submit comments directly to the Desk Officer for the Department of the Interior (OMB #1004-0165), Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street NW., Room 2134LM, Attention: Jean Sonneman, Washington, DC 20240.

Fax: To Jean Sonneman at 202-245-0050.

Electronic mail: Jean_Sonneman@blm.gov.

Please indicate “Attn: 1004-0165” regardless of the form of your comments.

FOR FURTHER INFORMATION CONTACT: James Goodbar, at 575-234-5929. Persons who use a telecommunication device for the deaf (TDD) may call the Federal Information Relay Service (FIRS) at 1-800-877-8339, to leave a message for Mr. Goodbar. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on June 18, 2012 (77 FR 36290), and the comment period ended August 17, 2012. The BLM received no comments. The BLM now requests comments on the following subjects:

1. Whether the collection of information is necessary for the proper functioning of the BLM and other collecting agencies, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0165 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection.

Title: Cave Management: Cave Nominations and Confidential Information (43 CFR part 37).

Forms: None.

OMB Control Number: 1004-0165.

Abstract: The information covered in this Information Collection Request applies to caves on Federal lands administered by the BLM, National Park Service, U.S. Fish and Wildlife Service, and Bureau of Reclamation. These agencies collect information from parties who are knowledgeable about caves, in order to update a list of significant caves that are under the jurisdiction of the agencies listed above. They also process requests for confidential information regarding significant caves. The information collected enables the agencies to comply with the Federal Cave Resources Protection Act (16 U.S.C. 4301-4310).

Frequency of Collection: On occasion.

Obligation to Respond: Required to obtain or maintain benefits.

Estimated Number and Description of Respondents Annually: 14 individuals and households.

Estimated Reporting and Recordkeeping “Hour” Burden Annually: 114 hours.

Estimated Reporting and Recordkeeping “Non-Hour Cost” Burden: None.

The following table details the individual components and respective hour burdens of this information collection request:

A. Type of response | B. Number of responses | C. Hours per response | D. Total hours (column B × column C)
Cave Nomination | 10 | 11 | 110
Request for Confidential Cave Information | 4 | 1 | 4
Totals | 14 |  | 114

Jean Sonneman,
Bureau of Land Management, Information Collection Clearance Officer.

[FR Doc. 2015-25551 Filed 10-6-15; 8:45 am]

BILLING CODE 4310-84-P